DEPARTMENT OF TRANSPORTATION

Federal Aviation Administration

14 CFR Part 39

[Docket No. 2002-CE-55-AD; Amendment 39-13096; AD 2003-06-08]

RIN 2120-AA64

Airworthiness Directives; Dornier-Werke G.m.b.H. Model Do 27 Q-6 Airplanes

AGENCY: Federal Aviation Administration, DOT.

ACTION: Final rule.

SUMMARY: This amendment adopts a new airworthiness directive (AD) that applies to all Dornier-Werke G.m.b.H. (Dornier) Model Do 27 Q-6 airplanes. This AD requires you to inspect the aileron and flap control cables for proper clearance from the fuel lines in the fuselage and make necessary adjustments; and inspect the fuel lines for damage and correct routing. This AD also requires you to replace all damaged fuel lines and reroute incorrectly routed fuel lines. After all other corrective action is taken, this AD also requires you to install protective sleeves on the fuel lines. This AD is the result of mandatory continuing airworthiness information (MCAI) issued by the airworthiness authority for Germany. The actions specified by this AD are intended to detect and correct damaged fuel lines and prevent the potential for further damage occurring to the fuel lines in the fuselage. Damage to the fuel lines could result in fuel leaking into the fuselage, which could cause a fire or explosion.

DATES: This AD becomes effective on May 16, 2003.

The Director of the Federal Register approved the incorporation by reference of certain publications listed in the regulations as of May 16, 2003.

ADDRESSES: You may get the service information referenced in this AD from Fairchild Dornier GmbH, PO Box 1103, D-82230 Wessling, Federal Republic of Germany; telephone: (011) 49 81 53-30 1; facsimile: (011) 49 81 53-30 29 01. You may view this information at the Federal Aviation Administration (FAA), Central Region, Office of the Regional Counsel, Attention: Rules Docket No. 2002-CE-55-AD, 901 Locust, Room 506, Kansas City, Missouri 64106; or at the Office of the Federal Register, 800 North Capitol Street, NW., suite 700, Washington, DC.

FOR FURTHER INFORMATION CONTACT: Karl Schletzbaum, Aerospace Engineer, FAA, Small Airplane Directorate, 901 Locust, Room 301, Kansas City, Missouri 64106; telephone: (816) 329-4143; facsimile: (816) 329-4090.

SUPPLEMENTARY INFORMATION:

Discussion

What Events Have Caused This AD?

The Luftfahrt-Bundesamt (LBA), which is the airworthiness authority for Germany, recently notified FAA that an unsafe condition may exist on all Dornier Model Do 27 Q-6 airplanes. The LBA reports that, during an annual maintenance inspection, a damaged fuel line was found in the area between the firewall and the instrument panel in the fuselage.

Further inspection revealed that the damaged fuel line was incorrectly routed and not properly secured. Incorrect installation of the fuel line allowed the aileron control cable to chafe the fuel line, which caused the fuel line to leak.

What Is the Potential Impact if FAA Took No Action?

This condition, if not detected, corrected, and prevented, could result in fuel leaking into the fuselage. This could cause a fire or explosion.

Has FAA Taken Any Action to This Point?

We issued a proposal to amend part 39 of the Federal Aviation Regulations (14 CFR part 39) to include an AD that would apply to all Dornier Model Do 27 Q-6 airplanes. This proposal was published in the Federal Register as a notice of proposed rulemaking (NPRM) on January 6, 2003 (68 FR 516). The NPRM proposed to require you to inspect the aileron and flap control cables in the fuselage for proper clearance from the fuel lines and make any necessary adjustments; and inspect the fuel lines for damage and correct routing. The NPRM also proposed to require you to replace all damaged fuel lines and reroute incorrectly routed fuel lines. After all other corrective action is taken, the NPRM also proposed to require you to install protective sleeves on the fuel lines.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

• Provide the intent that was proposed in the NPRM for correcting the unsafe condition; and

• Do not add any additional burden upon the public than was already proposed in the NPRM.

What Is the Difference Between This AD, the LBA AD, and the Service Information?

The LBA AD and the service information requires (on German-registered airplanes) inspection and, if necessary, adjustments and/or replacement within the next 10 hours time-in-service (TIS) after the effective date of the AD. We require that you inspect and, if necessary, adjust and/or replace within the next 55 hours TIS after the effective date of this AD. We do not have justification to require this action within the next 10 hours TIS.

We use compliance times such as 10 hours TIS when we have identified an urgent safety of flight situation. We believe that 55 hours TIS will give the owners or operators of the affected airplanes enough time to have the actions accomplished without compromising the safety of the airplanes.

Cost Impact

How Many Airplanes Does This AD Impact?

We estimate that this AD affects 2 airplanes in the U.S. registry.

What Is the Cost Impact of This AD on Owners/Operators of the Affected Airplanes?

We estimate the following costs to accomplish the inspection:

Labor cost | Parts cost | Total cost per airplane | Total cost on U.S. operators
1 workhour × $60 = $60 | Not applicable | $60 | $60 × 2 = $120.

We estimate the following costs to reroute any fuel line that will be required based on the results of the inspection. We have no way of determining the number of airplanes that may need such rerouting:

Labor cost | Parts cost | Total cost per airplane
2 workhours × $60 = $120 | No parts required | $120

We estimate the following costs to accomplish any necessary replacements that will be required based on the results of the inspection. We have no way of determining the number of airplanes that may need such replacements:

Labor cost | Parts cost | Total cost per airplane
6 workhours × $60 = $360 | $140 | $360 + $140 = $500.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-06-08 Dornier-Werke G.m.b.H.: Amendment 39-13096; Docket No. 2002-CE-55-AD.

(a) What airplanes are affected by this AD? This AD affects Model Do 27 Q-6 airplanes, all serial numbers, that are certificated in any category.

(b) Who must comply with this AD? Anyone who wishes to operate any of the airplanes identified in paragraph (a) of this AD must comply with this AD.

(c) What problem does this AD address? The actions specified by this AD are intended to detect and correct damaged fuel lines and prevent the potential for further damage occurring to the fuel lines in the fuselage. Damage to the fuel lines could result in fuel leaking into the fuselage, which could cause a fire or explosion.

(d) What actions must I accomplish to address this problem? To address this problem, you must accomplish the following:

Actions | Compliance | Procedures
(1) Inspect the following: (i) The aileron and flap control cable for proper clearance from the fuel lines in the fuselage; and (ii) The fuel lines between the firewall and instrument panel for damage and correct routing | Within the next 55 hours time-in-service (TIS) after May 16, 2003 (the effective date of this AD) | In accordance with Fairchild Dornier Do 27 Service Bulletin No. SB-1141-0000, dated June 12, 2002.
(2) Make adjustments and/or replacements if: (i) Improper clearance is detected between the aileron and control cable and the fuel lines; (ii) Any fuel line is found damaged; or (iii) Any fuel line is incorrectly routed. | Prior to further flight after the inspection required in paragraph (d)(1) of this AD and if any of the conditions specified in paragraph (d)(2) of this AD are met | In accordance with Fairchild Dornier Do 27 Service Bulletin No. SB-1141-0000, dated June 12, 2002.
(3) Install a protective sleeve around the fuel lines | Prior to further flight after the inspection required in paragraph (d)(1) of this AD and when all corrective actions have been accomplished | In accordance with Fairchild Dornier Do 27 Service Bulletin No. SB-1141-0000, dated June 12, 2002.

(e) Can I comply with this AD in any other way? You may use an alternative method of compliance or adjust the compliance time if:

(1) Your alternative method of compliance provides an equivalent level of safety; and

(2) The Manager, Standards Office, Small Airplane Directorate, approves your alternative. Submit your request through an FAA Principal Maintenance Inspector, who may add comments and then send it to the Manager, Standards Office.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64106; telephone: (816) 329-4144; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Fairchild Dornier Do 27 Service Bulletin No. SB-1141-0000, dated June 12, 2002. The Director of the Federal Register approved this incorporation by reference under 5 U.S.C. 552(a) and 1 CFR part 51. You may get copies from Dornier GmbH, P.O. Box 1103, D-82230 Wessling, Federal Republic of Germany; telephone: (011) 49 81 53-30 1; facsimile: (011) 49 81 53-30 29 01. You may view copies at the FAA, Central Region, Office of the Regional Counsel, 901 Locust, Room 506, Kansas City, Missouri, or at the Office of the Federal Register, 800 North Capitol Street, NW., suite 700, Washington, DC.

Note 2: The subject of this AD is addressed in German AD 2002-240, dated July 26, 2002.

(i) When does this amendment become effective? This amendment becomes effective on May 16, 2003.

Issued in Kansas City, Missouri, on March 19, 2003.
Sandra J. Campbell,
Acting Manager, Small Airplane Directorate, Aircraft Certification Service.

[FR Doc. 03-7186 Filed 3-26-03; 8:45 am]

BILLING CODE 4910-13-P